DEPARTMENT OF LABOR

Employment and Training Administration

[TA-W-59,111]

Eastman Kodak Company; United States and Canada Finance Department; Rochester, NY; Dismissal of Application for Reconsideration

Pursuant to 29 CFR 90.18(C) an application for administrative reconsideration was filed with the Director of the Division of Trade Adjustment Assistance for workers at Eastman Kodak Company, United States and Canada Finance Department, Rochester, New York. The application did not contain new information supporting a conclusion that the determination was erroneous, and also did not provide a justification for reconsideration of the determination that was based on either mistaken facts or a misinterpretation of facts or of the law. Therefore, dismissal of the application was issued.

TA-W-59,111; Eastman Kodak Company United States and Canada Finance Department Rochester, New York (May 31, 2006)

Signed at Washington, DC, this 1st day of June 2006.
Erica R. Cantor,
Director, Division of Trade Adjustment Assistance.

[FR Doc. E6-9019 Filed 6-8-06; 8:45 am]

BILLING CODE 4510-30-P